DEPARTMENT OF JUSTICE

Notice of Charter Establishment

AGENCY: Federal Bureau of Investigation, DOJ.

ACTION: Notice of Charter Establishment of the Executive Advisory Board of the National Domestic Communications Assistance Center.

SUMMARY: Pursuant to Title 41 of the U.S. Code of Federal Regulations, section 102-3.65, notice is hereby given that the Charter for the National Domestic Communications Assistance Center (NDCAC) Executive Advisory Board (EAB) was filed on August 1, 2014. The Charter is on file with the General Services Administration. However, the EAB has not met nor conducted any business since its establishment. The Attorney General determined that the NDCAC EAB is necessary and in the public interest in connection with the performance of duties of the Department of Justice and these duties can best be performed through the advice and counsel of this group. This determination followed consultation with the Committee Management Secretariat, General Services Administration.

The purpose of the EAB is to provide advice and recommendations to the Attorney General or designee, and to the Director of the NDCAC that promote public safety and national security by advancing the NDCAC's core functions: law enforcement coordination with respect to technical capabilities and solutions, technology sharing, industry relations, and implementation of the Communications Assistance for Law Enforcement Act (CALEA).

FOR FURTHER INFORMATION CONTACT: Alice Bardney-Boose, Designated Federal Officer, National Domestic Communications Assistance Center, Department of Justice, by email at Alice.Bardney-Boose@ic.fbi.gov or by phone at (540) 361-2330.

SUPPLEMENTARY INFORMATION: The EAB consists of 15 voting members composed of Representative members, Regular Government Employees and/or Special Government Employees. The membership includes representatives from Federal, State, local and tribal law enforcement agencies. Additionally, there are two non-voting members as follows: a federally-employed attorney assigned full time to the NDCAC to serve as a legal advisor to the EAB, and the DOJ Chief Privacy Officer or designee to ensure that privacy and civil rights and civil liberties issues are fully considered in the EAB's recommendations. The Board is composed of eight State, local, and/or tribal representatives and seven federal representatives. Any future changes to the voting membership of the EAB will maintain the continued majority of State, local, and/or tribal representatives by one seat.

The membership of the entire EAB includes active executive level officials (e.g., agency heads for State, local, or tribal representatives; and members of the Senior Executive Service for Federal agencies) having responsibility for, or being substantially engaged in, the management of electronic surveillance capabilities, evidence collection on communication devices, and technical location capabilities from Federal, State, local and/or tribal law enforcement agencies from across the country. EAB members serve two-year terms, and are eligible for reappointment if the Charter is renewed.

The EAB provides advice and recommendations to the Attorney General or designee on: (1) The selection and appointment of the Director and Deputy Director(s) of the NDCAC; (2) trends and developments with respect to existing and emerging communications services and technologies; (3) technical challenges faced by Federal, State, tribal and local law enforcement agencies with respect to lawfully-authorized electronic surveillance capabilities, evidence collection on communications devices, and technical location capabilities; (4) the effective leveraging and exchange of technical information and methods among Federal, State, tribal and local law enforcement agencies regarding lawfully-authorized electronic surveillance capabilities, evidence collection on communications devices, and technical location capabilities; (5) relations between law enforcement agencies and the communications industry to include leveraging existing and/or developing new private/public partnerships; (6) the development of standard practices within the law enforcement community; (7) implementation of CALEA; and (8) security and privacy policies, standards for participation by law enforcement agencies, and other issues relating to the functions, programs and operations of the NDCAC. The EAB further assists in shaping the goals and mission of the NDCAC by providing advice and guidance to the Director of the NDCAC on the establishment of policies and procedures designed to: ensure clarity in roles and responsibilities of the NDCAC; focus on established outcomes, intended results and accountability (by recommending specific courses of action); implement an effective infrastructure for the dissemination of technical information and methods; maintain an external focus to represent law enforcement stakeholders; pursue adequate resources necessary to accomplish the mission; and broker multi-agency participation and facilitate combined initiatives. The EAB provides insight into the diverse nature of jurisdiction-specific statutes and agency policies and procedures under which NDCAC participating law enforcement agencies operate. The EAB also receives information to review, monitor, and track training provided by or for NDCAC participating law enforcement agencies as well as recommend the development of standard practices for automated capabilities involving industry assistance.

Alice Bardney-Boose,
Designated Federal Officer, National Domestic Communication Assistance Center, Executive Advisory Board.

[FR Doc. 2015-31513 Filed 12-14-15; 8:45 am]

BILLING CODE 4410-02-P